SECURITIES AND EXCHANGE COMMISSION

Sunshine Act Meeting

FEDERAL REGISTER CITATION OF PREVIOUS ANNOUNCEMENT: [77 FR 67408, November 9, 2012]

STATUS: Closed Meeting.

PLACE: 100 F Street NE., Washington, DC.

DATE AND TIME OF PREVIOUSLY ANNOUNCED MEETING: Friday, November 9, 2012.

CHANGE IN THE MEETING: Cancellation of Meeting.

The Closed Meeting scheduled for Friday, November 9, 2012 at 9:00 a.m. has been cancelled.

For further information please contact the Office of the Secretary at (202) 551-5400.

Dated: November 9, 2012.
Elizabeth M. Murphy,
Secretary.

[FR Doc. 2012-27867 Filed 11-13-12; 11:15 am]

BILLING CODE 8011-01-P